DEPARTMENT OF TRANSPORTATION

Federal Aviation Administration

14 CFR Part 39

[Docket No. FAA-2018-0764; Product Identifier 2018-NM-074-AD]

RIN 2120-AA64

Airworthiness Directives; Airbus SAS Airplanes

AGENCY: Federal Aviation Administration (FAA), DOT.

ACTION: Notice of proposed rulemaking (NPRM).

SUMMARY: We propose to adopt a new airworthiness directive (AD) for all Airbus SAS Model A330-200 Freighter series airplanes, Model A330-200 and -300 series airplanes, and Model A340-200 and -300 series airplanes. This proposed AD was prompted by defects found during production tests of ram air turbine (RAT) units; investigation revealed that the defects were due to certain RAT hydraulic pumps having an alternative manufacturing process of the pump pistons. This proposed AD would require replacing any defective RAT hydraulic pump with a serviceable part and re-identifying the RAT module part number. We are proposing this AD to address the unsafe condition on these products.

DATES: We must receive comments on this proposed AD by October 15, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0764; or in person at Docket Operations between 9 a.m. and 5 p.m., Monday through Friday, except Federal holidays. The AD docket contains this NPRM, the regulatory evaluation, any comments received, and other information. The street address for Docket Operations (phone: 800-647-5527) is in the ADDRESSES section. Comments will be available in the AD docket shortly after receipt.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Comments Invited

We invite you to send any written relevant data, views, or arguments about this proposal. Send your comments to an address listed under the ADDRESSES section. Include “Docket No. FAA-2018-0764; Product Identifier 2018-NM-074-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

The European Aviation Safety Agency (EASA), which is the Technical Agent for the Member States of the European Union, has issued EASA AD 2018-0062, dated March 20, 2018 (referred to after this as the Mandatory Continuing Airworthiness Information, or “the MCAI”), to correct an unsafe condition for all Airbus SAS Model A330-200 Freighter series airplanes, Model A330-200 and -300 series airplanes, and Model A340-200 and -300 series airplanes. The MCAI states:

Four A330 RAT units were returned to the supplier due to low discharge pressure. These defects were detected during Airbus production tests. Subsequent investigations by the RAT manufacturer UTAS (formerly Hamilton Sundstrand) revealed that some RAT hydraulic pumps, [part number] P/N 5916430, were involved in an alternative manufacturing process of the pump pistons. This resulted in form deviations (rough surface finish and sharp edges), which caused excessive wear and damage to the bore where the pistons moved.

This condition, if not corrected, could lead to low performance of the pump, possibly resulting in reduced control of the aeroplane, particularly if occurring following a total engine flame out, or during a total loss of normal electrical power generation.

To address this potential unsafe condition, Airbus published [service bulletin] SB A330-29-3130 and SB A340-29-4098, providing instructions for identification and replacement of the affected parts.

For the reasons described above, this [EASA] AD requires replacement of the affected parts. This [EASA] AD also requires re-identification of the RAT module.

You may examine the MCAI in the AD docket on the internet at http://www.regulations.gov by searching for and locating Docket No. FAA-2018-0764.

Other Related Rulemaking

The FAA issued AD 2016-14-01, Amendment 39-18582 (81 FR 44983, July 12, 2016); corrected (81 FR 51097, August 3, 2016) (“AD 2016-14-01”). AD 2016-14-01 applies to certain Airbus SAS Model A330-200 Freighter series airplanes; Model A330-200 and A330-300 series airplanes; Model A340-200 and A340-300 series airplanes; Model A340-500 series airplanes; and Model A340-600 series airplanes. AD 2016-14-01 requires identification of the manufacturer, part number, and serial number of the RAT, and re-identification and modification of the RAT if necessary. AD 2016-14-01 was prompted by a report indicating that, during an operational test of a RAT, the RAT did not deploy in automatic mode. AD 2016-14-01 was issued to prevent non-deployment of the RAT, which, following a total engine flame-out, or during a total loss of normal electrical power generation, could result in reduced control of the airplane.

Related Service Information Under 1 CFR Part 51

Airbus SAS has issued Service Bulletins A330-29-3130 and A340-29-4098, both dated May 3, 2017. This service information describes procedures for replacing any affected RAT hydraulic pump with a serviceable part and re-identifying the RAT module part number. These documents are distinct since they apply to different airplane models.

UTC Aerospace Systems has issued Service Bulletin ERPS06M-29-22, dated March 17, 2017, and Revision 1, dated June 27, 2017. This service information identifies affected part and serial numbers for the RAT hydraulic pump. These documents are distinct since UTC Aerospace Systems Service Bulletin ERPS06M-29-22, Revision 1, dated June 27, 2017, adds a Parker part number reference to each Hamilton Sundstrand hydraulic part number.

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would require accomplishing the actions specified in the service information described previously.

Costs of Compliance

We estimate that this proposed AD affects 103 airplanes of U.S. registry. We estimate the following costs to comply with this proposed AD:

Estimated Costs
Labor cost | Parts cost | Cost per product | Cost on U.S. operators
Up to 14 work-hours × $85 per hour = Up to $1,190 | $0 | Up to $1,190 | Up to $122,570.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus SAS: Docket No. FAA-2018-0764; Product Identifier 2018-NM-074-AD.

(a) Comments Due Date

We must receive comments by October 15, 2018.

(b) Affected ADs

This AD affects AD 2016-14-01, Amendment 39-18582 (81 FR 44983, July 12, 2016); corrected (81 FR 51097, August 3, 2016) (“AD 2016-14-01”).

(c) Applicability

This AD applies to the airplanes identified in paragraphs (c)(1), (c)(2), (c)(3), (c)(4), and (c)(5) of this AD, certificated in any category, all manufacturer serial numbers.

(1) Airbus SAS Model A330-223F and -243F airplanes.

(2) Airbus SAS Model A330-201, -202, -203, -223, and -243 airplanes.

(3) Airbus SAS Model A330-301, -302, -303, -321, -322, -323, -341, -342, and -343 airplanes.

(4) Airbus SAS Model A340-211, -212, -213 airplanes.

(5) Airbus SAS Model A340-311, -312, and -313 airplanes.

(d) Subject

Air Transport Association (ATA) of America Code 29, Hydraulic Power.

(e) Reason

This AD was prompted by defects found during production tests of ram air turbine (RAT) units; investigation revealed that the defects were due to certain RAT hydraulic pumps having an alternative manufacturing process of the pump pistons. We are issuing this AD to prevent low performance of the pump, which, following a total engine flame-out, or during a total loss of normal electrical power generation, could result in reduced control of the airplane.

(f) Compliance

Comply with this AD within the compliance times specified, unless already done.

(g) Definitions for This AD

(1) An affected part is a RAT hydraulic pump having part number (P/N) 5916430 and a serial number identified in UTC Aerospace Systems Service Bulletin ERPS06M-29-22, dated March 17, 2017, or Revision 1, dated June 27, 2017.

(2) A serviceable part is a RAT hydraulic pump identified as acceptable in Airbus Service Bulletin A330-29-3130 or A340-29-4098, both dated May 3, 2017, as applicable.

(3) Group 1 airplanes are airplanes on which an affected part is installed.

(4) Group 2 airplanes are airplanes on which no affected part is installed. A Model A330 airplane on which Airbus SAS Modification 206604 has been embodied in production is a Group 2 airplane, provided that the airplane remains in that configuration.

(h) Replacement and Re-identification for Group 1 Airplanes

(1) Within 18 months after the effective date of this AD; replace any affected RAT hydraulic pump with a serviceable part, in accordance with the Accomplishment Instructions of Airbus Service Bulletin A330-29-3130 or A340-29-4098, both dated May 3, 2017, as applicable.

(2) Concurrently with the replacement required by paragraph (h)(1) of this AD, re-identify the part number of the serviceable RAT module, in accordance with the Accomplishment Instructions of Airbus Service Bulletin A330-29-3130 or A340-29-4098, both dated May 3, 2017, as applicable.

Note 1 to paragraph (h)(2) of this AD: Airbus Service Bulletins A330-29-3130 and A340-29-4098, both dated May 3, 2017, provide guidance for re-identification of the part numbers of the RAT hydraulic pumps that are not affected, and the part numbers of the RAT modules that are not equipped with an affected hydraulic pump.

(i) Compliance With AD 2016-14-01

After re-identification of a RAT module on an airplane, as required by paragraph (h)(2) of this AD, the airplane remains compliant with the RAT module re-identification requirements of AD 2016-14-01 for that airplane.

(j) Parts Installation Prohibition

(1) For Group 1 airplanes: After replacement of any affected RAT hydraulic pump as required by paragraph (h)(1) of this AD, do not install any affected RAT hydraulic pump.

(2) For Group 2 airplanes: As of the effective date of this AD, do not install any affected RAT hydraulic pump.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Branch, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or The European Aviation Safety Agency (EASA); or Airbus SAS's EASA DOA. If approved by the DOA, the approval must include the DOA-authorized signature.

(l) Related Information

(1) Refer to Mandatory Continuing Airworthiness Information (MCAI) EASA AD 2018-0062, dated March 20, 2018, for related information. This MCAI may be found in the AD docket on the internet at http://www.regulations.gov by searching for and locating Docket No. FAA-2018-0764.

(2) For more information about this AD, contact Vladimir Ulyanov, Aerospace Engineer, International Section, Transport Standards Branch, FAA, 2200 South 216th St., Des Moines, WA 98198; telephone and fax: 206-231-3229.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Issued in Des Moines, Washington, on August 16, 2018.
Michael Kaszycki,
Acting Director, System Oversight Division, Aircraft Certification Service.

[FR Doc. 2018-18811 Filed 8-30-18; 8:45 am]

BILLING CODE 4910-13-P